DEPARTMENT OF AGRICULTURE

Submission for OMB Review; Comment Request

September 9, 2019.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by October 15, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Organic Survey.

OMB Control Number: 0535-0249.

Summary of Collection: The primary objective of the National Agricultural Statistics Services (NASS) is to prepare and issue State and national estimates of crop and livestock production, prices, and disposition as well as economic statistics, farm numbers, land values, on-farm pesticide usage, pest crop management practices as well as the Census of Agriculture. General authority for these data collection activities is granted under 7 U.S.C. 2204. This census of organic farmers is required by law under the “Census of Agriculture Act of 1997,” Pubic Law No. 105-113, 7 U.S.C. 2204(g), as amended. Response to this survey will be mandatory.

Need and Use of the Information: The information is vital to RMA in determining insurance payments to organic farmers. The Organic Survey will provide acreage, production, and sales data for a variety of organic crop and livestock commodities as well as to gather information on organic marketing practices. These data will be provided by certified organic farms, organic farms exempt from certification, and transitional farms in all 50 States. National and State estimates (where publishable) will be set for all items that are collected on the survey. The collected data will be used to enhance programs like the Environmental Quality Incentives Program (EQIP) by providing accurate, detailed data for agricultural products produced using organic practices.

Description of Respondents: Farmers and Ranchers.

Number of Respondents: 25,500.

Frequency of Responses: Reporting: One time.

Total Burden Hours: 19,743.

Kimble Brown,
Departmental Information Collection Clearance Officer.

[FR Doc. 2019-19769 Filed 9-11-19; 8:45 am]

BILLING CODE 3410-20-P